DEPARTMENT OF TRANSPORTATION

Surface Transportation Board

[STB Finance Docket No. 34426]

Union Pacific Railroad Company—Temporary Trackage Rights Exemption—The Burlington Northern and Santa Fe Railway Company

The Burlington Northern and Santa Fe Railway Company (BNSF) has agreed to grant temporary overhead trackage rights to Union Pacific Railroad Company (UP) over BNSF's rail line between BNSF milepost 768.89 near Dallas (Forest Avenue), TX, and BNSF milepost 60.6 near Houston (Belt Junction), TX, a distance of approximately 247.5 miles.¹

¹ The trackage rights involve BNSF subdivisions with non-contiguous mileposts. Therefore, total mileage does not correspond to the milepost designations of the endpoints.

The transaction was scheduled to be consummated on November 1, 2003,² and the authorization is scheduled to expire on or about December 23, 2003. The purpose of the temporary trackage rights is to facilitate maintenance work on UP lines.

² The notice was filed with the Board on October 23, 2003. Accordingly, the earliest the transaction could be consummated was October 30, 2003 (7 days after filing under 49 CFR 1180.4(g)).

As a condition to this exemption, any employees affected by the temporary trackage rights will be protected by the conditions imposed in Norfolk and Western Ry. Co.—Trackage Rights—BN, 354 I.C.C. 605 (1978), as modified in Mendocino Coast Ry., Inc.—Lease and Operate, 360 I.C.C. 653 (1980), aff'd sub nom. Railway Labor Executives' Ass'n v. United States, 675 F.2d 1248 (D.C. Cir. 1982).

This notice is filed under 49 CFR 1180.2(d)(8).³ If it contains false or misleading information, the exemption is void ab initio. Petitions to revoke the exemption under 49 U.S.C. 10502(d) may be filed at any time. The filing of a petition to revoke will not automatically stay the transaction.

³ The Board adopted a new class exemption for trackage rights that, by their terms, are for overhead operations only and expire on a date certain, not to exceed 1 year from the effective date of the exemption. See Railroad Consolidation Procedures—Exemption for Temporary Trackage Rights, STB Ex Parte No. 282 (Sub-No. 20) (STB served May 23, 2003).

An original and 10 copies of all pleadings, referring to STB Finance Docket No. 34426, must be filed with the Surface Transportation Board, 1925 K Street, NW., Washington, DC 20423-0001. In addition, a copy of each pleading must be served on Robert T. Opal, 1416 Dodge Street, Room 830, Omaha, NE 68179.

Board decisions and notices are available on the Board's Web site at “http://www.stb.dot.gov.”

Decided: November 3, 2003.
By the Board, David M. Konschnik, Director, Office of Proceedings.
Vernon A. Williams,
Secretary.

[FR Doc. 03-28153 Filed 11-10-03; 8:45 am]

BILLING CODE 4915-00-P